DEPARTMENT OF DEFENSE

Department of the Army, Corps of Engineers

Intent to Prepare an Environmental Impact Statement (EIS) for a Permit Application for Widening of Bayou Casotte and Lower Sound Channels of the Pascagoula Harbor Channel, in the Port of Pascagoula, Jackson County, Mississippi

AGENCY: U.S. Army Corps of Engineers, DOD.

ACTION: Notice of Intent.

SUMMARY: The U.S. Army Corps of Engineers (Corps) Mobile District Regulatory Division announces its intent to prepare an EIS to assess the potential environmental impacts associated with widening the existing Pascagoula Lower Sound/Bayou Casotte Federal Channel segment of Pascagoula Harbor (the Project). The proposed Project is a 100-foot-widening of the Lower Sound and Bayou Casotte Legs of the Pascagoula Harbor Channel, as well as limited widening of the northern portion of the Horn Island Pass Channel to facilitate the transition between the two channel segments. The Corps is considering the Jackson County Port Authority/Port of Pascagoula (Port) application for a Department of the Army permit under Section 404 of the Clean Water Act, Section 10 of the Rivers and Harbors Act of 1899, and Section 103 of the Marine Protection, Research, and Sanctuaries Act. A joint public notice for the Section 10 permit (SAM-2011-00389-PAH) was issued by the Corps on April 15, 2011.

FOR FURTHER INFORMATION CONTACT: Questions about the proposed action and Draft EIS can be answered by Mr. Philip A. Hegji, Corps Project Manager, at (251) 690-3222. Comments shall be addressed to: U.S. Army Corps of Engineers, Mobile District, Regulatory Division, ATTN: File Number SAM-2011-00389-PAH, at P.O. Box 2288, Mobile, Alabama 36628-0001, or street address, 109 St. Joseph Street, Mobile, Alabama 36602.

SUPPLEMENTARY INFORMATION: 1. Background. The EIS will assess the impacts associated with dredging approximately 38,137 feet (7.22 miles) of the existing Pascagoula Lower Sound/Bayou Casotte Federal Channel segment to widen the channel 100 feet parallel to the existing channel centerline, to the existing depth of −42 feet mean lower low water, as well as the beneficial use and placement of the dredged material. The proposed project would be developed over approximately the next 2 to 3 years.

The EIS discussed in this notice would support the regulatory process for this specific permit application and Project. The Corps Planning Division is also preparing a separate EIS and Feasibility Study under the Corps Planning Process to evaluate whether there is a Federal interest in modifying the existing federally authorized navigation channel (Federal Navigation Channel) leading to Bayou Casotte (i.e., Pascagoula channel widening from the Horn Island Pass to the entrance of the Bayou Casotte Harbor) and maintenance of the channel.

The primary Federal involvement in this EIS for the Regulatory Division is an application for a permit to dredge or excavate adjacent to a Federal Navigation Channel in or affecting navigable waters of the United States, and potential impacts on the human environment from such activities, as well as the disposal of material in the littoral disposal area, which could be suitable for beneficial use. Also included in the evaluation is the placement of dredged material within the U.S. Environmental Protection Agency (EPA) designated Pascagoula Ocean Dredged Material Disposal Site (ODMDS) and the designated Littoral Zone Placement Area located east and south of the barrier island. It is anticipated that the excavated area would become part of the Federal Navigation Channel in the future, if the Corps adopts maintenance of the widened area, pending approval of the Corps Planning documents described above. No wetland impacts are known to exist at the proposed dredge disposal site. In accordance with the National Environmental Policy Act (NEPA), the Corps is requiring the preparation of an Environmental Impact Statement (EIS) prior to rendering a final decision on the Port's permit application, based on potentially significant impacts to water quality, cultural resources, endangered or threatened species, or sediment transport. The Corps may ultimately make a determination to approve the permit, approve the permit with conditions, or deny the permit for the above project.

This effort will also support non-federal construction of the project and, in concert with the parallel Planning Division EIS, the potential federal maintenance under the authority of Section 204(b) of the Water Resources Development Act of 1986.

Pursuant to the National Environmental Policy Act of 1969 (as amended), the Corps will serve as Lead Agency for the Preparation of an EIS. The Draft EIS is intended to be sufficient in scope to address both the Federal and the state and local requirements and environmental issues concerning the proposed activities and permit approvals. The National Marine Fisheries Service (NMFS) has expressed interest in acting as a cooperating agency in the preparation of the EIS.

2. Project Purpose and Need. The overall project purpose is to widen the existing Federal Navigation Channel, including excavation, as needed, to reconfigure the site to alleviate the current transit restrictions and increase travel efficiencies for vessel transit, improve safety conditions for vessel operations, improve conditions for port operations, and improve habitat conditions through the beneficial use of dredged material.

3. Issues. There are several potential environmental issues that will be addressed in the EIS. Additional issues may be identified during the scoping process. Issues initially identified as potentially significant include:

a. Impacts to traffic, including marine navigation and ground transportation;

b. Potential impacts to endangered and threatened species;

c. Air quality;

d. Water quality;

e. Socioeconomic effects;

f. Cumulative impacts; and

g. Placement of dredged materials.

4. Alternatives. Alternatives initially being considered for the proposed improvement project include the following:

a. No Project/No Action. .This alternative would not implement any of the elements presented in the project description.

b. Widening 100 feet on the West Side. This alternative is the proposed Project to widen the Federal Channel segment approximately 100 feet parallel to the existing channel centerline, to the existing depth of −42 feet mean lower low water. The width may be increased as necessary to allow adequate transit for navigation in transition zones. The improved channel would be 7.22 miles long and result in excavation of approximately 3.4 to 3.8 million cubic yards of dredged material.

c. Widening of 50 feet on Either Side of the Channel Centerline. This alternative includes a proposal to widen the Federal Channel segment, approximately 50 feet on either side of the existing channel centerline, to the existing depth of −42 feet mean lower low water. The width may be increased as necessary to allow adequate transition for navigation. The improved channel would be similar in length and dredged material quantities to the proposed Project (widening 100 feet on the West Side).

5. Scoping Process. As part of the Corps Planning Division EIS, a public scoping meeting was conducted for the proposed Bayou Casotte and Lower Sound Channels Widening of the Pascagoula Harbor Channel. The meeting was held to receive public comments and assess public concerns regarding the appropriate scope and preparation of the Draft EIS. Participation in the public meeting by Federal, State, and local agencies and other interested organizations and persons was encouraged. This meeting was conducted in English, and was held on Thursday, February 25, 2010 from 5:30 p.m. to 7:30 p.m., located at the Pascagoula Public Library, 3214 Pascagoula Street, Pascagoula, MS 39567.

A comment period was held for the Regulatory Division on the permit application, which was noticed April 15, 2011. The comment period was held from April 15, 2011 to May 16, 2011.

The Corps will be accepting written comments on this Notice of Intent to prepare an EIS, and they will be taken into consideration during development of the document. We encourage any additional comments from interested public, agencies, and local officials. Written and e-mailed comments to the Corps will be received until October 20, 2011. Written comments should be sent to the address below:

U.S. Army Corps of Engineers, Mobile District, Regulatory Division, c/o Philip A. Hegji, 109 St. Joseph Street, Mobile, Alabama 36628-0001, e-mail: Philip.A.Hegji@usace.army.mil.

6. Availability of the Draft EIS. The Corps expects the Draft EIS to be made available to the public in late spring 2012. A public hearing will be held during the public comment period for the Draft EIS.

Dated: September 9, 2011.
Craig J. Litteken,
Chief, Regulatory Division.

[FR Doc. 2011-23994 Filed 9-16-11; 8:45 am]

BILLING CODE P